NATIONAL COUNCIL ON DISABILITY

Sunshine Act Meetings

TIME AND DATES: The board meeting will be held on Thursday, March 10, 2011, 11:30 a.m.-5 p.m., ET, and Friday, March 11, 2011, 9 a.m.-12:30 p.m. ET, and from 3:30-5 p.m. ET, if necessary. Please refer to the NCD Web site (http://www.ncd.gov) for any late changes to the meeting times.

PLACE: The board meeting will occur in two different locations. On Thursday, March 10, 2011, the meeting will occur in the offices of Mayer Brown LLP, 1999 K Street, NW., Washington, DC 20006. On Friday, March 11, 2011, the meeting will occur at the Access Board Conference Room, 1331 F Street, NW., Suite 800, Washington, DC 20004.

MATTERS TO BE CONSIDERED: The tentative agenda for the board meeting includes annual ethics training, a demonstration of the agency's Web site redesign, a possible speaker from the U.S. Department of Health and Human Services, the “Living” regional forum, a review of the agency's budget and strategic plan implementation, and other items, to be determined. A portion of the meeting from 3:30-5 p.m., on Friday, March 11, 2011 may be closed to discuss internal personnel rules and practices, pursuant to paragraph (c)(2) of the Sunshine Act, and in accordance with a determination made by the NCD Chairman.

CONTACT PERSON FOR MORE INFORMATION: Anne Sommers, NCD, 1331 F Street, NW., Suite 850, Washington, DC 20004; 202-272-2004 (V), 202-272-2074 (TTY).

ACCOMMODATIONS: Those who plan to attend and require accommodations should notify NCD as soon as possible to allow time to make arrangements.

Dated: February 24, 2011.
Aaron Bishop,
Executive Director.

[FR Doc. 2011-4463 Filed 2-24-11; 11:15 am]

BILLING CODE 6820-MA-P